ENVIRONMENTAL PROTECTION AGENCY

[FRL-8978-9]

National Drinking Water Advisory Council's Climate Ready Water Utilities Working Group Meeting Announcement

AGENCY: Environmental Protection Agency.

ACTION: Notice.

SUMMARY: The Environmental Protection Agency (EPA or Agency) is announcing the first teleconference meeting of the Climate Ready Water Utilities (CRWU) Working Group of the National Drinking Water Advisory Council (NDWAC). The purpose of this conference call is to provide a forum for the CRWU Working Group members to introduce themselves, to discuss the ground rules and standard operating procedures, and to develop an estimated time frame and approach to complete the Working Group charge. Any interested person or organization may attend or dial into the conference call (see the FOR FURTHER INFORMATION CONTACT section and the SUPPLEMENTARY INFORMATION section of this notice for more information).

DATES: The first CRWU Working Group conference call will take place from 3 p.m. to 5:30 p.m., Eastern Standard Time, on November 23, 2009.

FOR FURTHER INFORMATION CONTACT: Interested participants from the public should contact Lauren Wisniewski, Designated Federal Officer, U.S. Environmental Protection Agency, Office of Ground Water and Drinking Water, Water Security Division (Mail Code 4608T), 1200 Pennsylvania Avenue, NW., Washington, DC 20460. Please contact Lauren Wisniewski at wisniewski.lauren@epa.gov or call 202-564-2918 to register and receive pertinent details such as the telephone number and extension to participate in the conference call.

SUPPLEMENTARY INFORMATION: Public Participation: The CRWU Working Group encourages public participation and a limited number of phone lines have been reserved for the public. The Designated Federal Officer (DFO) will provide available teleconferencing lines on a first-come, first-serve basis. To ensure adequate time for public involvement, oral statements will be limited to two minutes, and it is preferred that only one person present the statement on behalf of a group or organization. Any person who wishes to file a written statement can do so before or after the CRWU Working Group meeting. Written statements received prior to the meeting will be distributed to all members of the Working Group before any final discussion or vote is completed. Any statements received after the meeting will become part of the permanent meeting file and will be forwarded to the CRWU Working Group members for their information. Any person needing special accommodations for this teleconference should contact the DFO, at the number or e-mail listed under the FOR FURTHER INFORMATION CONTACT section, at least five business days before the meeting so that appropriate arrangements can be made.

Background: The Agency's National Water Program Strategy: Response to Climate Change (2008) document identified the need to provide drinking water and wastewater utilities with easy-to-use resources to assess the risk associated with climate change and to identify potential adaptation strategies. NDWAC, established under the Safe Drinking Water Act, as amended (42 U.S.C. 300f et seq.), provides practical and independent advice, consultation and recommendations to the Agency on the activities, functions and policies related to the implementation of the Safe Drinking Water Act. On May 28, 2009, the NDWAC voted on and approved the formation of the CRWU Working Group. EPA anticipates that the Working Group will have five face-to-face meetings over the course of the next year in addition to conference calls and/or video conferencing on an as needed basis. After the Working Group completes its charge, it will make recommendations to the full NDWAC. The full NDWAC will, in turn, make appropriate recommendations to the EPA.

Working Group Charge: The charge for the CRWU Working Group is to evaluate the concept of “Climate Ready Water Utilities” and provide recommendations to the full NDWAC on the development of an effective program for drinking water and wastewater utilities, including recommendations to: (1) Define and develop a baseline understanding of how to use available information to develop climate change adaptation and mitigation strategies, including ways to integrate this information into existing complementary programs such as the Effective Utility Management and Climate Ready Estuaries Program; (2) identify climate change-related tools, training, and products that address short-term and long-term needs of water and wastewater utility managers, decision makers, and engineers, including ways to integrate these tools and training into existing programs; and (3) incorporate mechanisms to provide recognition or incentives that facilitate broad adoption of climate change adaptation and mitigation strategies by the water sector into existing EPA Office of Water recognition and awards programs or new recognition programs.

Dated: November 3, 2009.
Nanci E. Gelb,
Acting Director, Office of Ground Water and Drinking Water.

[FR Doc. E9-26962 Filed 11-6-09; 8:45 am]

BILLING CODE 6560-50-P